DEPARTMENT OF COMMERCE

National Oceanic and Atmospheric Administration

[I.D. 021407A]

Fisheries of the Northeastern United States; Atlantic Mackerel, Squid, and Butterfish Fisheries; Amendment 10 Butterfish Stock Rebuilding and Amendment 11 Atlantic Mackerel Limited Access Program

AGENCY: National Marine Fisheries Service (NMFS), National Oceanic and Atmospheric Administration (NOAA), Commerce.

ACTION: Supplemental Notice Of Intent (NOI) to prepare an environmental impact statement; request for comments.

SUMMARY: On December 19, 2005, the Mid-Atlantic Fishery Management Council (Council), in cooperation with NMFS, announced its intent to prepare an environmental assessment (EA) for Amendment 10 (butterfish stock rebuilding program) and a supplemental environmental impact statement (SEIS) for Amendment 11 (Atlantic mackerel limited access program) to the Atlantic Mackerel, Squid, and Butterfish Fishery Management Plan (FMP). Since then, the Council and NMFS have concluded that a SEIS must be prepared for Amendment 10; therefore, this supplemental NOI seeks comments on Amendment 10. In addition, the Council hereby notifies the public that SEIS documents for Amendment 10 and Amendment 11 will be developed simultaneously, but each amendment will remain separate fishery management actions.

DATES: Public comments on the supplementary NOI for Amendment 10 must be received no later than 5 p.m., eastern standard time, on March 29, 2007.

ADDRESSES: Copies of supporting documents used by the Council are available from: Daniel Furlong, Executive Director, Mid-Atlantic Fishery Management Council, Room 2115, Federal Building, 300 South New Street, Dover, DE 19904-6790.

Written comments on the supplementary notice of intent for Amendment 10 may be sent by any of the following methods:

• E-mail to the following address: MSBAmendment10@noaa.gov. Include in the subject line of the e-mail comment the following document identifier: “Comments on MSB Amendment 10”;

• Mail to Daniel Furlong, Executive Director, Mid-Atlantic Fishery Management Council, Room 2115, Federal Building, 300 South New Street, Dover, DE 19904-6790. Mark the outside of the envelope “Comments on MSB Amendment 10”; or

• Fax to Daniel Furlong, 302-674-5399.

FOR FURTHER INFORMATION CONTACT: Carrie Nordeen, Fishery Policy Analyst, phone 978-281-9272, fax 978-281-9135.

SUPPLEMENTARY INFORMATION:

Amendment 10 Butterfish Stock Rebuilding

The most recent stock assessment for Atlantic butterfish indicated that while overfishing of the stock is not occurring, the stock is overfished because the most recent estimates of stock biomass are slightly below the minimum biomass threshold supporting maximum sustainable yield (50 percent of BMSY). Based on this information, NMFS notified the Council that the butterfish stock is designated as being overfished as defined under the Magnuson-Stevens Fisheries Conservation and Management Act (Magnuson-Stevens Act). The purpose of Amendment 10 to the FMP is to develop a management program consistent with the Magnuson-Stevens Act which would rebuild the butterfish stock to the level associated with BMSY. After a preliminary analysis of the action, the Council believed that an EA would fulfill the requirements of the National Environmental Policy Act (NEPA). However, during the development and preliminary analyses of alternatives for rebuilding strategies and possible management measures, it became apparent that some of the measures being considered could potentially have significant effects on the human environment, particularly the Loligo squid fishery. Potential measures being considered are no action, gear modifications, area management, and bycatch/retention requirements. In order to consider the full range of alternatives potentially necessary to rebuild the overfished butterfish stock, the Council has determined that the development of a SEIS will be necessary to fulfill the requirements of NEPA and this supplemental notice of intent requests comments on this action.

Amendment 11 Atlantic Mackerel Limited Access Program

On March 4, 2005 (70 FR 10605), the Council published an NOI to prepare a SEIS to consider the impacts of alternatives for limiting access to the Atlantic mackerel fishery. The Council subsequently conducted scoping meetings on the development of a limited access program, which the Council originally planned to include in Amendment 9 to the FMP. However, due to unforeseen delays in the development of Amendment 9, the Council subsequently notified the public on December 19, 2005 (70 FR 75114), that the mackerel limited access program would be considered in Amendment 11 to the FMP. The Council hereby notifies the public that it will begin development of Amendment 11 and the associated SEIS while Amendment 10 is being developed, although the two amendments will remain separate fishery management actions. Comments received during the previous scoping period for Amendment 11 will be considered and no additional comments are being sought at this time. This notification also reminds the public that interested participants should locate and preserve records that substantiate and verify their participation in the Atlantic mackerel fishery in Federal waters.

Request for Comments

The public will have the opportunity to comment on the measures and alternatives being considered by the Council for both amendments through public meetings and public comment periods required by NEPA, the Magnuson-Stevens Act, and the Administrative Procedure Act. NMFS anticipates completing these SEISs and all related documents by early 2009.

Authority: 16 U.S.C. 1801 et seq.

Dated: February 21, 2007.
James P. Burgess,
Acting Director, Office of Sustainable Fisheries, National Marine Fisheries Service.

[FR Doc. E7-3336 Filed 2-26-07; 8:45 am]

BILLING CODE 3510-22-S